NATIONAL AERONAUTICS AND SPACE ADMINISTRATION

Notice [00-028]

NASA Advisory Council (NAC), Aero-Space Technology Advisory Committee (ASTAC); Meeting

AGENCY: National Aeronautics and Space Administration.

ACTION: Notice of meeting.

SUMMARY: In accordance with the Federal Advisory Committee Act, Public Law 92-463, as amended, the National Aeronautics and Space Administration announces a forthcoming meeting of the NASA Advisory Council, Aero-Space Technology Advisory Committee.

DATES: Wednesday, April 12, 2000, 1 p.m. to 5 p.m.; and Thursday, April 13, 2000, 8:30 a.m. to 5 p.m.

ADDRESSES: Holiday Inn, Rosslyn Westpark Hotel, 1900 North Fort Myer Drive, Arlington, Virginia 22209; and National Aeronautics and Space Administration, Room 6H46, 300 E Street, SW, Washington, DC 20546.

FOR FURTHER INFORMATION CONTACT: Ms. Mary-Ellen McGrath, Office of Aero-Space Technology, National Aeronautics and Space Administration, Washington, DC 20546 (202/358-4729).

SUPPLEMENTARY INFORMATION: The April 12, 2000, meeting will be a Joint Aero-Space Technology Advisory Committee (ASTAC) and Research, Engineering and Development (R,E&D) Advisory Committee session. The meeting will be open to the public up to the seating capacity of the room.

The agenda for the meeting is as follows:

Wednesday, April 12—Holiday Inn, Rosslyn Westpark Hotel

—Opening Comments for Joint Aero-Space Technology Advisory Committee (ASTAC) and Research, Engineering and Development (R,E&D) Advisory Committee

—Icing Research Overview

—Small Aircraft Transportation System (SATS) Report

—Air Traffic Management Steering Committee Report

—Aviation Systems After Next R&D Planning

Thursday, April 13—National Aeronautics and Space Administration

—Aero-Space Technology Overview

—Intelligent Synthesis Environment (ISE) Briefing

—Revolutionary Concepts (REVCON) Selection Report

—High-Speed Research Program Status

—University Strategy Update

—Subcommittee Reports

It is imperative that the meeting be held on these dates to accommodate the scheduling priorities of the key participants.

Dated: March 21, 2000.
Matthew M. Crouch,
Advisory Committee Management Officer, National Aeronautics and Space Administration.

[FR Doc. 00-7414 Filed 3-24-00; 8:45 am]

BILLING CODE 7510-01-U